DEPARTMENT OF ENERGY

Federal Energy Regulatory Commission

Combined Notice of Filings

Take notice that the Commission has received the following Natural Gas Pipeline Rate and Refund Report filings:

Docket Numbers: RP19-57-001.

Applicants: Algonquin Gas Transmission, LLC.

Description: Report Filing: AGT Base Rate Refund Report.

Filed Date: 11/6/20.

Accession Number: 20201106-5117.

Comments Due: 5 p.m. ET 11/18/20.

Docket Numbers: RP21-201-000.

Applicants: Natural Gas Pipeline Company of America.

Description: § 4(d) Rate Filing: Filing—Amendment to a Negotiated Rate Agreement—Macquarie to be effective 11/7/2020.

Filed Date: 11/6/20.

Accession Number: 20201106-5000.

Comments Due: 5 p.m. ET 11/18/20.

Docket Numbers: RP21-202-000.

Applicants: Columbia Gas Transmission, LLC.

Description: § 4(d) Rate Filing: SJRG Neg Rate Amendment to be effective 11/6/2020.

Filed Date: 11/6/20.

Accession Number: 20201106-5032.

Comments Due: 5 p.m. ET 11/18/20.

Docket Numbers: RP21-203-000.

Applicants: Texas Eastern Transmission, LP.

Description: § 4(d) Rate Filing: Negotiated Rates—Gulfport 911377 Release to be effective 11/7/2020.

Filed Date: 11/6/20.

Accession Number: 20201106-5045.

Comments Due: 5 p.m. ET 11/18/20.

Docket Numbers: RP21-204-000.

Applicants: Northern Natural Gas Company.

Description: § 4(d) Rate Filing: 20201106 Negotiated Rate to be effective 11/7/2020.

Filed Date: 11/6/20.

Accession Number: 20201106-5106.

Comments Due: 5 p.m. ET 11/18/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2020.
Nathaniel J. Davis, Sr.,
Deputy Secretary.

[FR Doc. 2020-25304 Filed 11-16-20; 8:45 am]

BILLING CODE 6717-01-P